NUCLEAR REGULATORY COMMISSION

Agency Information Collection Activities: Proposed Collection; Comment Request

AGENCY: Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. chapter 35).

Information pertaining to the requirement to be submitted:

1. The title of the information collection: 10 CFR Part 39—Licenses and Radiation Safety Requirements for Well Logging.

2. Current OMB approval number: 3150-0130.

3. How often the collection is required: Applications for new licenses and amendments may be submitted at any time. Applications for renewal are submitted every 10 years. Reports are submitted as events occur.

4. Who will be required or asked to report: Applicants for and holders of specific licenses authorizing the use of licensed radioactive material for radiography.

5. The estimated number of annual respondents: 161 (35 NRC licensees and 126 Agreement State licensees).

6. The number of hours needed annually to complete the requirement or request: 34,933 hours. The NRC licensees total burden is 7,594 hours (111 reporting hrs plus 7,483 recordkeeping hrs). The Agreement State licensees total burden is 27,339 hours (405 reporting hrs plus 26,934 recordkeeping hrs). The average burden per response for both NRC licensees and Agreement State licensees is 3.2 hours, and the burden per recordkeeper is 214 hours.

7. Abstract: 10 CFR part 39 establishes radiation safety requirements for the use of radioactive material in well logging operations. The information in the applications, reports and records is used by the NRC staff to ensure that the health and safety of the public is protected and that licensee possession and use of source and byproduct material is in compliance with license and regulatory requirements.

Submit, by August 2, 2004, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC World Wide Web site: http://www.nrc.gov/public-involve/doc-comment/omb/index.html. The document will be available on the NRC home page site for 60 days after the signature date of this notice.

Comments and questions about the information collection requirements may be directed to the NRC Clearance Officer, Brenda Jo. Shelton (T-5 F52), U.S. Nuclear Regulatory Commission, Washington, DC 20555-0001, by telephone at 301-415-7233, or by Internet electronic mail to infocollects@nrc.gov.

Dated in Rockville, Maryland, this 26th day of May, 2004.
For the Nuclear Regulatory Commission.
Brenda Jo. Shelton,
NRC Clearance Officer, Office of the Chief Information Officer.

[FR Doc. 04-12520 Filed 6-2-04; 8:45 am]

BILLING CODE 7590-01-P